DEPARTMENT OF COMMERCE

National Oceanic and Atmospheric Administration

50 CFR Part 648

[Docket No.: 160706587-6999-02]

RIN 0648-BG21

Fisheries of the Northeastern United States; Atlantic Mackerel, Squid, and Butterfish Fisheries; Amendment 16

AGENCY: National Marine Fisheries Service (NMFS), National Oceanic and Atmospheric Administration (NOAA), Commerce.

ACTION: Final rule.

SUMMARY: This final rule implements regulations in Amendment 16 to the Atlantic Mackerel, Squid, and Butterfish Fishery Management Plan. Amendment 16 protects deep-sea corals from the effects of commercial fishing gear in the Mid-Atlantic. The management measures implemented in this rule are intended to protect deep-sea coral and deep-sea coral habitat while promoting the sustainable utilization and conservation of several different marine resources managed under the authority of the Mid-Atlantic Fishery Management Council.

DATES: Effective January 13, 2017.

ADDRESSES: Copies of supporting documents used by the Mid-Atlantic Fishery Management Council, including the Environmental Assessment (EA) and Regulatory Impact Review (RIR)/Initial Regulatory Flexibility Analysis (IRFA), are available from: Dr. Christopher M. Moore, Executive Director, Mid-Atlantic Fishery Management Council, 800 North State Street, Suite 201, Dover, DE 19901, telephone (302) 674-2331. The EA/RIR/IRFA is also accessible online at http://www.greateratlantic.fisheries.noaa.gov.

FOR FURTHER INFORMATION CONTACT: Peter Christopher, Supervisory Fishery Policy Analyst, (978) 281-9288, fax (978) 281-9135.

SUPPLEMENTARY INFORMATION:

Background

On January 16, 2013, the Council published a Notice of Intent (NOI) to prepare an Environmental Impact Statement (78 FR 3401) for Amendment 16 to the Atlantic Mackerel, Squid, and Butterfish Fishery Management Plan (FMP) to consider measures to protect deep-sea corals from the impacts of commercial fishing gear in the Mid-Atlantic. The Council conducted scoping meetings during February 2013 to gather public comments on these issues. Following further development of Amendment 16 through 2013 and 2014, the Council conducted public hearings in January 2015. Following public hearings, and with disagreement about the boundaries of the various alternatives, the Council held a workshop with various stakeholders on April 29-30, 2015, to further refine the deep-sea coral area boundaries. The workshop was an example of effective collaboration among fishery managers, the fishing industry, environmental organizations, and the public to develop management recommendations with widespread support. The Council adopted Amendment 16 on June 10, 2015, and submitted Amendment 16 on August 15, 2016, for final review by NMFS, acting on behalf of the Secretary of Commerce. NMFS published a Notice of Availability (NOA) announcing its review of Amendment 16 on September 2, 2016 (81 FR 60666), and a proposed rule including implementing regulations on September 27, 2016 (81 FR 66245). The public comment period for both the NOA and proposed rule ended on November 1, 2016.

The Council developed the action, and the measures described in this notice, under the discretionary provisions for deep-sea coral protection in section 303(b) of the Magnuson-Stevens Fishery Conservation and Management Act (Magnuson-Stevens Act). This provision gives the Regional Fishery Management Councils the authority to:

(A) Designate zones where, and periods when, fishing shall be limited, or shall not be permitted, or shall be permitted only by specified types of fishing vessels or with specified types and quantities of fishing gear;

(B) Designate such zones in areas where deep-sea corals are identified under section 408 (this section describes the deep-sea coral research and technology program), to protect deep-sea corals from physical damage from fishing gear or to prevent loss or damage to such fishing gear from interactions with deep-sea corals, after considering long-term sustainable uses of fishery resources in such areas; and

(C) With respect to any closure of an area under the Magnuson-Stevens Act that prohibits all fishing, ensure that such closure:

(i) Is based on the best scientific information available;

(ii) Includes criteria to assess the conservation benefit of the closed area;

(iii) Establishes a timetable for review of the closed area's performance that is consistent with the purposes of the closed area; and

(iv) Is based on an assessment of the benefits and impacts of the closure, including its size, in relation to other management measures (either alone or in combination with such measures), including the benefits and impacts of limiting access to: Users of the area, overall fishing activity, fishery science, and fishery and marine conservation.

Consistent with these provisions, the Council recommended the measures in Amendment 16 to balance the impacts of measures implemented under this discretionary authority with the management objectives of the Mackerel, Squid, and Butterfish FMP and the value of potentially affected commercial fisheries.

Approved Measures

Deep-Sea Coral Protection Area

This final rule creates a deep-sea coral protection area in Mid-Atlantic waters. It consists of a broad zone that starts at a depth contour of approximately 450 meters (m) and extends to the U.S. Exclusive Economic Zone (EEZ) boundary, and to the north and south to the boundaries of the Mid-Atlantic waters (as defined in the Magnuson-Stevens Act). In addition, the deep-sea coral protection area includes 15 discrete zones that outline deep-sea canyons on the continental shelf in Mid-Atlantic waters. The deep-sea coral area, including both broad and discrete zones, is one continuous area.

The broad coral zone is precautionary in nature and is intended to freeze the footprint of fishing to protect corals from future expansion of fishing effort into deeper waters. The broad coral zone has a landward boundary drawn between the 400 m and 500 m contours with the intention to approximate the 450 m depth contour as closely as possible, minimizing the number of vertices in the boundary line. In areas where there is conflict or overlap between this broad zone and any designated discrete zone boundaries, the discrete zone boundaries are prioritized. From the landward boundary, the broad zone boundaries extends along the northern and southern boundaries of the Mid-Atlantic management region, and to the edge of the EEZ as the eastward boundary.

The discrete coral zones are specific submarine canyons and slope areas located in Mid-Atlantic waters. The boundaries were developed collaboratively by participants at the Council's April 29-30, 2015, Deep-sea Corals Workshop in Linthicum, MD. Participants included the Council's Squid, Mackerel, and Butterfish Advisory Panel, the Ecosystems and Ocean Planning Advisory Panel, members of the Deep-sea Corals Fishery Management Action Team, invited deep-sea coral experts, additional fishing industry representatives, and other interested stakeholders. The canyons and slope areas were identified as areas with observed coral presence or highly likely coral presence indicated by modeled suitable habitat. Therefore, prohibiting bottom-tending fishing gear in these areas prevents interaction with and damage to deep-sea corals that either are known through observation to live in these areas or that are likely to live there. The discrete coral zones are: Block Canyon; Ryan and McMaster Canyons; Emery and Uchupi Canyons; Jones and Babylon Canyons; Hudson Canyon; Mey-Lindenkohl Slope; Spencer Canyon; Wilmington Canyon; North Heyes and South Wilmington Canyons; South Vries Canyon; Baltimore Canyon; Warr and Phoenix Canyon Complex; Accomac and Leonard Canyons; Washington Canyon; and Norfolk Canyon.

Gear Restrictions in the Deep-Sea Coral Area

This action prohibits the use of bottom-tending commercial fishing gear within the designated deep-sea coral area, including: Bottom-tending otter trawls; bottom-tending beam trawls; hydraulic dredges; non-hydraulic dredges; bottom-tending seines; bottom-tending longlines; sink or anchored gill nets; and pots and traps except those used to fish for red crab and American lobster. The prohibition on these gears will protect deep-sea corals from interaction with and damage from bottom-tending fishing gear.

Vessels can transit the deep-sea coral area protection area provided the vessels bring bottom-tending fishing gear onboard the vessel, and reel bottom-tending trawl gear onto the net reel. The Council proposed these slightly less restrictive transiting provisions because the majority of transiting will be through the very narrow canyon heads (i.e., the narrow tips of the canyons that extend landward of the broad coral zone landward boundary). The Council determined that the normal gear stowage requirements, and requirements that gear be unavailable for immediate use, (at 50 CFR 648.2) would be too burdensome for commercial vessels within the narrow areas of some of the discrete coral zones.

Administrative Measures

Vessels issued an Illex squid moratorium permit are required to have a vessel monitoring system (VMS) installed, and operators of these vessels would have to declare Illex squid trips on which 10,000 lb (4.53 mt) or more of Illex squid would be harvested. By requiring Illex squid vessels to have VMS and declare Illex fishing trips prior to leaving port, this measure facilitates enforcement of the deep-sea coral area and gear restrictions. NMFS notes that all Illex vessels currently have VMS installed and that all of these vessels are already required to declare trips. Therefore, this provision does not create any new operational requirement for Illex squid vessel owners or operators.

This action expands the framework adjustment provisions in the FMP to facilitate future modifications to the deep-sea coral protection measures. The framework measures include:

• Modifications to coral zone boundaries via framework action;

• Modifications to the boundaries of broad or discrete deep-sea coral zones through a framework action;

• Modification of management measures within deep-sea coral protection areas. This provides the Council the option to modify fishing restrictions, exemptions, monitoring requirements, and other management measures within deep-sea coral zones through a framework action. It includes measures directed at gear and species not currently addressed in the FMP to further the FMP's goal of protecting deep-sea corals from physical damage from fishing gear or to prevent loss or damage to such fishing gear from interactions with deep-sea corals. This would also include the ability to add a prohibition on anchoring in deep-sea coral protection areas;

• Addition of discrete coral zones; and

• Implementation of special access program for deep-sea coral protection area. This provides the Council the option to design and implement a special access program for commercial fishery operations in deep-sea coral zones through a framework action.

Formal Naming of the Deep-Sea Coral Protection Area

The Council recommended that the deep-sea coral protection area should be named in honor of the late Senator Frank R. Lautenberg. Senator Lautenberg was responsible for several important pieces of ocean conservation legislation and authored several provisions included in the most recent reauthorized Magnuson-Stevens Act (2007), including the discretionary provision for corals. Therefore, this final rule implements the deep-sea coral protection area as the “Frank R. Lautenberg Deep-Sea Coral Protection Area.”

Comments and Responses

We received 10 comments on the proposed rule and NOA (8 in general support of the action and 2 against the action), including letters from five individuals, the Garden State Seafood Association, the Maryland Department of Natural Resources, and the Wildlife Conservation Society's New York Aquarium. We also received a joint comment from Oceana, Wildlife Conservation Society's New York Aquarium, Conservation Law Foundation, Earthjustice, Great Egg Harbor Watershed Association, Natural Resource Defense Council, Pew Charitable Trusts, Tycoon Tackle Inc., and Wild Oceans. Supporting this joint comment was a comment the PEW Charitable Trust submitted to the Council prior to final action on Amendment 16. This comment was included to convey the strong and broad public support for the protection of deep-sea corals (including 12,201 signatures). The comment specific to the Amendment 16 proposed rule was supportive of the action. The following summarizes the issues raised in the comments and NMFS's responses.

Comment 1: Garden State Seafood Association opposes the expansion of framework adjustment provisions as currently allowed by the fishery management plan.

Response: In general, the framework alternatives are primarily administrative and intended to simplify and improve the efficiency of future actions related to deep-sea coral protections. The purpose of modifying the list of “frameworkable items” in the FMP is to demonstrate that the concepts included on the list have previously been considered in an amendment (i.e., they are not novel) and the applicable measures are included in the fishery management plan or regulations. Adjustment of the measures through the framework process allows for modification of the measures already included in the fishery management plan(s). The effects of any proposed action or future change through the framework adjustment process will be analyzed through a separate NEPA process and developed with public input through the Council process.

Comment 2: The joint comment letter (from Oceana, Wildlife Conservation Society's New York Aquarium, Conservation Law Foundation, Earthjustice, Great Egg Harbor Watershed Association, Natural Resource Defense Council, PEW Charitable Trusts, Tycoon Tackle Inc., and Wild Oceans) requested that the exemptions for lobster and crab pots and traps provided in the action be reexamined in a future action to ensure that they are justified and that the final rule provide a full explanation of how the Council and NOAA will approach reconsideration of the exemption, including evaluation criteria and a detailed description of the information that will be collected over the 2-year period in order to make a better informed decision. The letter requested that NMFS and the Council establish a process to jointly assess the effectiveness in protecting deep-sea corals in the Coral Area, and that the chosen metrics be reviewed periodically to make adjustments.

Response: The Council developed this action under the discretionary provisions for deep-sea coral protection in section 303(b) of the Magnuson-Stevens Act. This provision gives the Council the authority to establish a timetable for review of the closed area's performance that is consistent with the purposes of the closed area. Although the Council did not establish a formal review process for the areas, it clearly indicated its intent to allow review and modification through the framework provisions it included in the amendment. Because the process is not included, and it is not required, NMFS cannot impose a timeline or process on the Council. However, NMFS will continue to work with the Council and remind it of the need to adjust these measures as necessary as new information becomes available.

Comment 3: The joint comment letter recommended that the Council and NMFS consider expanding the boundaries of the discrete zones to better protect deep-sea corals, including stony corals (Scleractinia) and sea pens (Pennatulacea).

Response: The Council can consider additional action to further expand the protection of deep-sea corals through the framework measures and process it included in this amendment.

Comment 4: The joint comment letter recommended that the transit provision require the full gear stowage provisions as opposed to the slightly less restrictive requirements proposed.

Response: The action allows slightly less restrictive transiting provisions because the majority of transiting will be through the very narrow canyon heads (i.e., the narrow tips of the canyons that extend landward of the broad coral zone landward boundary). The normal gear stowage requirements, and requirements that gear be unavailable for immediate use, (at 50 CFR 648.2), would be burdensome for commercial vessels within the narrow areas of some of the discrete coral zones. The less restrictive gear stowage requirement still prohibits vessels from fishing in the areas and they must have gear onboard; the more restrictive measures would not reduce the potential for fishing.

Comment 5: The joint comment letter requested that the Council consider future prohibitions on mid-water trawl gear.

Response: The Council has the option to consider additional gear prohibitions in the area through a framework.

Comment 6: The joint comment letter opposed the implementation of a special access program for commercial fishing operations in the coral area via framework action. They feel there should be a full amendment to create such a program.

Response: The framework alternatives are primarily administrative and intended to simplify and improve the efficiency of future actions related to deep-sea coral protections. The purpose of modifying the list of frameworkable items in the FMP is to demonstrate that the concepts included on the list have previously been considered in an amendment. Any proposed action or future change will be analyzed through a separate NEPA process and would be developed by the Council through a public process, including Council, Committee, and Advisory Panel meetings that are all open to public participation.

Comment 7: One commenter requested that a large portion of the deep-sea coral protection area be set aside as a permanently protected no-take reserve, to both preserve biodiversity and ensure sustainable fisheries into the future.

Response: The Council did not consider measures that would establish “no-take reserves.” Rather, the measures approved as part of this amendment, and the alternatives the Council considered, were meant to prevent fishing in some areas and prevent expansion of fisheries into areas where corals are known or believed to exist. The Council balanced the desire to close these areas under the Magnuson-Stevens Act's discretionary deep-sea coral provision with the need to promote sustainable fisheries as the primary requirement under the Magnuson-Stevens Act. However, if the Council wants to consider expanded protection of biodiversity through no-take reserves or similar measures, it can take an additional action to further expand the protection of deep-sea corals.

Comment 8: One commenter stated that during the development of this action the Council led the fishing industry to believe that all existing fisheries operating in the areas protected under this action would be allowed to continue and that no new fisheries would be allowed to use the area, (i.e., the action would freeze the footprint of fishing). He stated that removing all bottom tending mobile gear from these areas will have “devastating impacts on current fisheries that have historically taken place near/in the coral zones.”

Response: We disagree that the Council misled the fishing industry. The Council held a workshop with various stakeholders (including fishing industry participants) because of disagreement about how to set the coral protection area boundaries so that it would limit fishing but not have a high negative impact on fisheries. Environmental advocates, and deep-sea coral experts, as well as the Atlantic Mackerel, Squid, and Butterfish Advisory Panel and the Ecosystems and Ocean Planning Advisory Panel attended the workshop. The workshop resulted in stakeholders working together to compromise on a set of boundaries for the 15 discrete deep-sea coral zones, which the Council subsequently selected as its preferred alternative. During the workshop to refine boundaries for coral zones, advisors assisted in developing boundaries that would allow for continued fishing just outside the gear restricted areas. As a result, the Council determined the economic impacts of this action will result in overall neutral to moderate negative economic impacts for fishing businesses, depending on the fishery and assuming vessels will redistribute effort to offset impacts of the prohibition on fishing in some areas where they traditionally fished.

Comment 9: One commenter stated that the Council has never provided any justification for the decision to allow fixed gear in the area when data show that fixed gear poses a greater threat to deep-sea coral than mobile gear.

Response: The Council recommended the exemption for the red crab fishery because of the small size of the red crab fleet (three vessels) and because all red crab effort takes place at depths entirely within all of the proposed broad zone areas. Prohibiting red crab fishing in the coral protection area would have severely limited the red crab fishery and would have had excessively high negative economic impacts on red crab vessels.

Comment 10: One commenter stated that there should be names on all fishing equipment assigned to fishing boats and loss of such equipment should require a fine of a million dollars if equipment is lost because it is causing massive marine death.

Response: Lobster and red crab gear are already required to be marked to identify the vessel. Further, both of these gears are required to be compliant with the Atlantic Large Whale Take Reduction Plan to reduce injuries and deaths of large whales due to incidental entanglement in fishing gear. Details on the Atlantic Large Whale Take Reduction Plan can be found here: https://www.greateratlantic.fisheries.noaa.gov/Protected/whaletrp/.

Changes From Proposed Rule to Final Rule

There are no changes from the proposed rule.

Classification

Pursuant to section 304(b)(1)(A) of the Magnuson-Stevens Act, the NMFS Assistant Administrator has determined that this final rule is consistent with the FMP, other provisions of the Magnuson-Stevens Act, and other applicable law.

The Office of Management and Budget (OMB) has determined that this final rule is not significant according to Executive Order (E.O.) 12866.

This final rule does not contain policies with federalism or “takings” implications, as those terms are defined in E.O. 13132 and E.O. 12630, respectively.

This action does not contain any collection-of-information requirements subject the Paperwork Reduction Act (PRA).

NMFS, pursuant to section 604 of the Regulatory Flexibility Act (RFA), has completed a final regulatory flexibility analysis (FRFA) in support of Amendment 16 in this final rule. The FRFA incorporates the IRFA, a summary of the significant issues raised by the public comments in response to the IRFA, NMFS responses to those comments, a summary of the analyses completed in the Amendment 16 EA, and this portion of the preamble. A summary of the IRFA was published in the proposed rule for this action and is not repeated here. A description of why this action was considered, the objectives of, and the legal basis for this rule is contained in Amendment 16 and in the preamble to the proposed and this final rule, and is not repeated here. All of the documents that constitute the FRFA are available from NMFS and a copy of the IRFA, the Regulatory Impact Review (RIR), and the EA are available upon request (see ADDRESSES).

A Summary of the Significant Issues Raised by the Public in Response to the IRFA, a Summary of the Agency's Assessment of Such Issues, and a Statement of Any Changes Made in the Final Rule as a Result of Such Comments

There were no specific comments on the IRFA. The Comments and Responses section summarizes the comments that highlight concerns about the economic impacts and implications of impacts on small businesses (i.e., comment 8). No comments were received from the Office of Advocacy for the Small Business Administration.

Description and Estimate of the Number of Small Entities To Which This Rule Would Apply

On December 29, 2015, NMFS issued a final rule establishing a small business size standard of $11 million in annual gross receipts for all businesses primarily engaged in the commercial fishing industry (NAICS 11411) for RFA compliance purposes only (80 FR 81194; December 29, 2015). The $11 million standard became effective on July 1, 2016, and is to be used in place of the U.S. Small Business Administration's (SBA) current standards of $20.5 million, $5.5 million, and $7.5 million for the finfish (NAICS 114111), shellfish (NAICS 114112), and other marine fishing (NAICS 114119) sectors of the U.S. commercial fishing industry in all NMFS rules subject to the RFA after July 1, 2016 (Id. at 81194).

The Council prepared the IRFA under the SBA standards and submitted the action for initial NMFS review in March 2016, prior to the July 1, 2016, effective date of NMFS' new size standard for commercial fishing businesses, under the assumption that the proposed rule would also publish prior to the July 1, 2016, effective date. However, NMFS has reviewed the analyses prepared for this regulatory action in light of the new size standard. The new size standard could result in some of the large businesses being considered small, but, as explained below, this does not affect the conclusions of the analysis. The following summarizes the IRFA using the SBA definitions of small businesses.

The deep-sea coral zones measures in association with other management measures within the coral zones could affect any business entity that has an active Federal fishing permit and fishes in the zone/gear restricted areas. In order to identify firms, vessel ownership data, which have been added to the permit database, were used to identify all the individuals who own fishing vessels. With this information, vessels were grouped together according to common owners. The resulting groupings were then treated as a fishing business (firm, affiliate, or entity), for purposes of identifying small and large firms. According to the ownership database, a total of 113 finfish firms (all small entities) fished in the Council's preferred broad and discrete zones during 2014. Also in 2014, there were 184 small and 16 large shellfish entities. The ownership database shows that small finfish firms that operated in the Council's preferred broad and discrete zones generated average revenues that ranged from $18,344 (in 2013) to $21,055 (in 2014). The ownership database shows that small shellfish firms that operated in the Council's preferred broad and discrete zones generated average revenues that ranged from $35,276 (in 2014) to $58,723 (in 2012). The ownership database shows that large shellfish firms that operated in the Council's preferred broad and discrete zones generated average revenues that ranged from $146,901 (in 2013) to $314,223 (in 2012).

Description of the Projected Reporting, Record-Keeping, and Other Compliance Requirements

This action contains no new collection-of-information requirements subject to review and approval by the Office of Management and Budget (OMB) under the Paperwork Reduction Act (PRA). This action requires Illex squid vessels to install and operate VMS, and to declare Illex squid trips. However, NMFS has determined that all Illex squid vessels that will be affected by this action already have VMS. Because every Illex vessel has VMS, they are already required to enter a trip declaration for every trip. Therefore, there is no additional reporting burden imposed by this action.

Description of the Steps the Agency Has Taken To Minimize the Significant Economic Impact on Small Entities Consistent With the Stated Objectives of Applicable Statutes

During the development of Amendment 16, the Council considered several alternatives to the deep-sea coral protection measures it ultimately recommended. While some alternatives would have closed less area (smaller discrete zone areas and broad zone area starting at a deeper depth) and other alternatives would have allowed more fishing (an exemption for tilefish gear), NMFS has does not have the authority to implement measures that were not recommended by the Council as part of its preferred action. Rather, NMFS can only approve or disapprove Council recommendations in an amendment. NMFS, therefore, is implementing the Council's preferred action, but the action includes some measures that reduce the economic impact inherent in closing areas to fishing. Specifically, this final rule exempts red crab pot gear from the prohibition on fishing with bottom-tending fishing gear in the deep-sea coral protection area. The red crab fishery exists entirely within the boundaries of the deep-sea coral protection area in the Mid-Atlantic. The exemption allows the fishery to continue to operate in the Mid-Atlantic and gain revenue from its catch. In addition, vessels are allowed to transit the deep-sea coral protection area, which is particularly important at the heads of the discrete zone canyons (where the boundaries come to a point). Because vessels fish with bottom-tending gear along the edges of the canyons, they would have to transit around them to fish on both sides of the canyon. This would cost fuel and could ultimately impact trip duration and catch if vessel operators would have had to spend time transiting around the canyon heads rather than across them. Both the red crab pot gear exemption and the transiting provision therefore reduces cost and time and minimizes the economic impact of the measures implemented under this final rule.

Small Entity Compliance Guide

Section 212 of the Small Business Regulatory Enforcement Fairness Act of 1996 states that, for each rule or group of related rules for which an agency is required to prepare a final regulatory flexibility analysis, the agency shall publish one or more guides to assist small entities in complying with the rule, and shall designate such publications as “small entity compliance guides.” The agency shall explain the actions a small entity is required to take to comply with a rule or group of rules. The preamble to the proposed rule (81 FR 66245, September 27, 2016) and the preamble to this final rule serve as the small entity compliance guide. This final rule does not require any additional compliance from small entities that is not described in the preamble to the proposed rule and this final rule. Copies of the proposed rule and this final rule are available from NMFS at the following Web site: https://www.greateratlantic.fisheries.noaa.gov/sustainable/species/scallop/.

List of Subjects in 50 CFR Part 648

Fisheries, Fishing, Recordkeeping and reporting requirements.

Dated: December 7, 2016.
Samuel D. Rauch III,
Deputy Assistant Administrator for Regulatory Programs, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.10, add paragraphs (b)(11) and (p) to read as follows:

§ 648.10 VMS and DAS requirements for vessel owners/operators.

* * * * *

(b) * * *

(11) Vessels issued an Illex squid moratorium permit.

* * * * *

(p) Illex squid VMS notification requirement. A vessel issued an Illex squid moratorium permit intending to declare into the Illex squid fishery must notify NMFS by declaring an Illex squid trip prior to leaving port at the start of each trip in order to harvest, possess, or land 10,000 lb (4,535.9 kg) or more of Illex squid on that trip.

3. In § 648.14, add paragraph (b)(10) and revise paragraphs (g)(2)(v) heading and (g)(2)(v)(A) to read as follows:

§ 648.14 Prohibitions.

* * * * *

(b) * * *

(10) Fish with bottom-tending gear within the Frank R. Lautenberg Deep-sea Coral Protection Area described at § 648.27, unless transiting pursuant to § 648.27(d), fishing lobster trap gear in accordance with § 697.21 of this chapter, or fishing red crab trap gear in accordance with § 648.264. Bottom-tending gear includes but is not limited to bottom-tending otter trawls, bottom-tending beam trawls, hydraulic dredges, non-hydraulic dredges, bottom-tending seines, bottom longlines, pots and traps, and sink or anchored gill nets.

* * * * *

(g) * * *

(2) * * *

(v) Reporting requirements in the limited access Atlantic mackerel, longfin squid/butterfish, and Illex squid moratorium fisheries. (A) Fail to declare via VMS into the mackerel, longfin squid/butterfish, or Illex squid fisheries by entering the fishery code prior to leaving port at the start of each trip, if the vessel will harvest, possess, or land Atlantic mackerel, more than 2,500 lb (1,134 kg) of longfin squid, or more than 10,000 lb (4,535.9 kg) of Illex squid, and is issued a Limited Access Atlantic mackerel permit, longfin squid/butterfish moratorium permit, or Illex squid moratorium permit, pursuant to § 648.10.

* * * * *

4. In § 648.25:

a. Revise paragraph (a)(1);

b. Redesignate paragraphs (a)(2), (a)(3), and (a)(4) as paragraphs (a)(3), (a)(4), and (a)(5); and

c. Add new paragraph (a)(2).

The revisions and addition read as follows:

§ 648.25 Atlantic Mackerel, squid, and butterfish framework adjustments to management measures.

(a) * * *

(1) Adjustment process. The MAFMC shall develop and analyze appropriate management actions over the span of at least two MAFMC meetings. The MAFMC must provide the public with advance notice of the availability of the recommendation(s), appropriate justification(s) and economic and biological analyses, and the opportunity to comment on the proposed adjustment(s) at the first meeting and prior to and at the second MAFMC meeting. The MAFMC's recommendations on adjustments or additions to management measures must come from one or more of the following categories:

(i) Adjustments within existing ABC control rule levels;

(ii) Adjustments to the existing MAFMC risk policy;

(iii) Introduction of new AMs, including sub-ACTs;

(iv) Minimum and maximum fish size;

(v) Gear restrictions, gear requirements or prohibitions;

(vi) Permitting restrictions;

(vii) Recreational possession limit, recreational seasons, and recreational harvest limit;

(viii) Closed areas;

(ix) Commercial seasons, commercial trip limits, commercial quota system, including commercial quota allocation procedure and possible quota set-asides to mitigate bycatch;

(x) Annual specification quota setting process;

(xi) FMP Monitoring Committee composition and process;

(xii) Description and identification of EFH (and fishing gear management measures that impact EFH);

(xiii) Description and identification of habitat areas of particular concern;

(xiv) Overfishing definition and related thresholds and targets;

(xv) Regional gear restrictions, regional season restrictions (including option to split seasons), regional management;

(xvi) Restrictions on vessel size (LOA and GRT) or shaft horsepower;

(xvii) Changes to the SBRM, including the CV-based performance standard, the means by which discard data are collected/obtained, fishery stratification, the process for prioritizing observer sea-day allocations, reports, and/or industry-funded observers or observer set aside programs;

(xviii) Set aside quota for scientific research;

(xix) Process for inseason adjustment to the annual specification;

(xx) Mortality caps for river herring and shad species, time/area management for river herring and shad species, and provisions for river herring and shad incidental catch avoidance program, including adjustments to the mechanism and process for tracking fleet activity, reporting incidental catch events, compiling data, and notifying the fleet of changes to the area(s);

(xxi) The definition/duration of `test tows,' if test tows would be utilized to determine the extent of river herring incidental catch in a particular area(s);

(xxii) The threshold for river herring incidental catch that would trigger the need for vessels to be alerted and move out of the area(s), the distance that vessels would be required to move from the area(s), and the time that vessels would be required to remain out of the area(s);

(xxiii) Modifications to the broad and discrete deep-sea coral zone boundaries and the addition of discrete deep-sea coral zones;

(xxiv) Modifications to the management measures within the Frank R. Lautenberg Deep-sea Coral Protection Area and implementation of special access programs to the Frank R. Lautenberg Deep-sea Coral Protection Area; and

(xxv) Any other management measures currently included in the FMP.

(2) Measures contained within this list that require significant departures from previously contemplated measures or that are otherwise introducing new concepts may require amendment of the FMP instead of a framework adjustment.

* * * * *

5. Add § 648.27 to subpart B to read as follows:

§ 648.27 Frank R. Lautenberg Deep-Sea Coral Protection Area.

(a) No vessel may fish with bottom-tending gear within the Frank R. Lautenberg Deep-Sea Coral Protection Area described in this section, unless transiting pursuant to paragraph (d) of this section, fishing lobster trap gear in accordance with § 697.21 of this chapter, or fishing red crab trap gear in accordance with § 648.264. Bottom-tending gear includes but is not limited to bottom-tending otter trawls, bottom-tending beam trawls, hydraulic dredges, non-hydraulic dredges, bottom-tending seines, bottom longlines, pots and traps, and sink or anchored gillnets. The Frank R. Lautenberg Deep-Sea Coral Protection Area consists of the Broad and Discrete Deep-Sea Coral Zones defined in paragraphs (b) and (c) of this section.

(b) Broad Deep-Sea Coral Zone. The Broad Deep-Sea Coral Zone is bounded on the east by the outer limit of the U.S. Exclusive Economic Zone, and bounded on all other sides by straight lines connecting the following points in the order stated (copies of a chart depicting this area are available from the Regional Administrator upon request). An asterisk (*) in the Discrete Zone column means the point is shared with a Discrete Deep-Sea Coral Zone, as defined in paragraph (c) of this section.

Broad Zone
Point | Latitude | Longitude | Discrete zone
1 | 36°33.02′ N. | 71°29.33′ W. |
2 | 36°33.02′ N. | 72°00′ W. |
3 | 36°33.02′ N. | 73°00′ W. |
4 | 36°33.02′ N. | 74°00′ W. |
5 | 36°33.02′ N. | 74°42.14′ W. |
6 | 36°34.44′ N. | 74°42.23′ W. |
7 | 36°35.53′ N. | 74°41.59′ W. |
8 | 36°37.69′ N. | 74°41.51′ W. |
9 | 36°42.09′ N. | 74°39.07′ W. |
10 | 36°45.18′ N. | 74°38′ W. |
11 | 36°45.69′ N. | 74°38.55′ W. |
12 | 36°49.17′ N. | 74°38.31′ W. |
13 | 36°49.56′ N. | 74°37.77′ W. |
14 | 36°51.21′ N. | 74°37.81′ W. |
15 | 36°51.78′ N. | 74°37.43′ W. |
16 | 36°58.51′ N. | 74°36.51′ W. | *
17 | 36°58.62′ N. | 74°36.97′ W. | *
18 | 37°4.43′ N. | 74°41.03′ W. | *
19 | 37°5.83′ N. | 74°45.57′ W. | *
20 | 37°6.97′ N. | 74°40.8′ W. | *
21 | 37°4.52′ N. | 74°37.77′ W. | *
22 | 37°4.02′ N. | 74°33.83′ W. | *
23 | 37°4.52′ N. | 74°33.51′ W. | *
24 | 37°4.4′ N. | 74°33.11′ W. | *
25 | 37°7.38′ N. | 74°31.95′ W. |
26 | 37°8.32′ N. | 74°32.4′ W. |
27 | 37°8.51′ N. | 74°31.38′ W. |
28 | 37°9.44′ N. | 74°31.5′ W. |
29 | 37°16.83′ N. | 74°28.58′ W. |
30 | 37°17.81′ N. | 74°27.67′ W. |
31 | 37°18.72′ N. | 74°28.22′ W. |
32 | 37°22.74′ N. | 74°26.24′ W. | *
33 | 37°22.87′ N. | 74°26.16′ W. | *
34 | 37°24.44′ N. | 74°28.57′ W. | *
35 | 37°24.67′ N. | 74°29.71′ W. | *
36 | 37°25.93′ N. | 74°30.13′ W. | *
37 | 37°27.25′ N. | 74°30.2′ W. | *
38 | 37°28.6′ N. | 74°30.6′ W. | *
39 | 37°29.43′ N. | 74°30.29′ W. | *
40 | 37°29.53′ N. | 74°29.95′ W. | *
41 | 37°27.68′ N. | 74°28.82′ W. | *
42 | 37°27.06′ N. | 74°28.76′ W. | *
43 | 37°26.39′ N. | 74°27.76′ W. | *
44 | 37°26.3′ N. | 74°26.87′ W. | *
45 | 37°25.69′ N. | 74°25.63′ W. | *
46 | 37°25.83′ N. | 74°24.22′ W. | *
47 | 37°25.68′ N. | 74°24.03′ W. | *
48 | 37°28.04′ N. | 74°23.17′ W. |
49 | 37°27.72′ N. | 74°22.34′ W. |
50 | 37°30.13′ N. | 74°17.77′ W. |
51 | 37°33.83′ N. | 74°17.47′ W. |
52 | 37°35.48′ N. | 74°14.84′ W. |
53 | 37°36.99′ N. | 74°14.01′ W. |
54 | 37°37.23′ N. | 74°13.02′ W. |
55 | 37°42.85′ N. | 74°9.97′ W. |
56 | 37°43.5′ N. | 74°8.79′ W. |
57 | 37°45.22′ N. | 74°9.2′ W. |
58 | 37°45.15′ N. | 74°7.24′ W. | *
59 | 37°45.88′ N. | 74°7.44′ W. | *
60 | 37°46.7′ N. | 74°5.98′ W. | *
61 | 37°49.62′ N. | 74°6.03′ W. | *
62 | 37°51.25′ N. | 74°5.48′ W. | *
63 | 37°51.99′ N. | 74°4.51′ W. | *
64 | 37°51.37′ N. | 74°3.3′ W. | *
65 | 37°50.63′ N. | 74°2.69′ W. | *
66 | 37°49.62′ N. | 74°2.28′ W. | *
67 | 37°50.28′ N. | 74°0.67′ W. | *
68 | 37°53.68′ N. | 73°57.41′ W. | *
69 | 37°55.07′ N. | 73°57.27′ W. | *
70 | 38°3.29′ N. | 73°49.1′ W. | *
71 | 38°6.19′ N. | 73°51.59′ W. | *
72 | 38°7.67′ N. | 73°52.19′ W. | *
73 | 38°9.04′ N. | 73°52.39′ W. | *
74 | 38°10.1′ N. | 73°52.32′ W. | *
75 | 38°11.98′ N. | 73°52.65′ W. | *
76 | 38°13.74′ N. | 73°50.73′ W. | *
77 | 38°13.15′ N. | 73°49.77′ W. | *
78 | 38°10.92′ N. | 73°50.37′ W. | *
79 | 38°10.2′ N. | 73°49.63′ W. | *
80 | 38°9.26′ N. | 73°49.68′ W. | *
81 | 38°8.38′ N. | 73°49.51′ W. | *
82 | 38°7.59′ N. | 73°47.91′ W. | *
83 | 38°6.96′ N. | 73°47.25′ W. | *
84 | 38°6.51′ N. | 73°46.99′ W. | *
85 | 38°5.69′ N. | 73°45.56′ W. | *
86 | 38°6.35′ N. | 73°44.8′ W. | *
87 | 38°7.5′ N. | 73°45.2′ W. | *
88 | 38°9.24′ N. | 73°42.61′ W. | *
89 | 38°9.41′ N. | 73°41.63′ W. |
90 | 38°15.13′ N. | 73°37.58′ W. |
91 | 38°15.25′ N. | 73°36.2′ W. | *
92 | 38°16.19′ N. | 73°36.91′ W. | *
93 | 38°16.89′ N. | 73°36.66′ W. | *
94 | 38°16.91′ N. | 73°36.35′ W. | *
95 | 38°17.63′ N. | 73°35.35′ W. | *
96 | 38°18.55′ N. | 73°34.44′ W. | *
97 | 38°18.38′ N. | 73°33.4′ W. | *
98 | 38°19.04′ N. | 73°33.02′ W. | *
99 | 38°25.08′ N. | 73°34.99′ W. | *
100 | 38°26.32′ N. | 73°33.44′ W. | *
101 | 38°29.72′ N. | 73°30.65′ W. | *
102 | 38°28.65′ N. | 73°29.37′ W. | *
103 | 38°25.53′ N. | 73°30.94′ W. | *
104 | 38°25.26′ N. | 73°29.97′ W. | *
105 | 38°23.75′ N. | 73°30.16′ W. | *
106 | 38°23.47′ N. | 73°29.7′ W. | *
107 | 38°22.76′ N. | 73°29.34′ W. | *
108 | 38°22.5′ N. | 73°27.63′ W. | *
109 | 38°21.59′ N. | 73°26.87′ W. | *
110 | 38°23.07′ N. | 73°24.11′ W. |
111 | 38°25.83′ N. | 73°22.39′ W. |
112 | 38°25.97′ N. | 73°21.43′ W. |
113 | 38°34.14′ N. | 73°11.14′ W. | *
114 | 38°35.1′ N. | 73°10.43′ W. | *
115 | 38°35.94′ N. | 73°11.25′ W. | *
116 | 38°37.57′ N. | 73°10.49′ W. | *
117 | 38°37.21′ N. | 73°9.41′ W. | *
118 | 38°36.72′ N. | 73°8.85′ W. | *
119 | 38°43′ N. | 73°1.24′ W. | *
120 | 38°43.66′ N. | 73°0.36′ W. | *
121 | 38°45′ N. | 73°0.27′ W. | *
122 | 38°46.68′ N. | 73°1.07′ W. | *
123 | 38°47.54′ N. | 73°2.24′ W. | *
124 | 38°47.84′ N. | 73°2.24′ W. | *
125 | 38°49.03′ N. | 73°1.53′ W. | *
126 | 38°48.45′ N. | 73°1′ W. | *
127 | 38°49.15′ N. | 72°58.98′ W. | *
128 | 38°48.03′ N. | 72°56.7′ W. | *
129 | 38°49.84′ N. | 72°55.54′ W. | *
130 | 38°52.4′ N. | 72°52.5′ W. | *
131 | 38°53.87′ N. | 72°53.36′ W. | *
132 | 38°54.17′ N. | 72°52.58′ W. | *
133 | 38°54.7′ N. | 72°50.26′ W. | *
134 | 38°57.2′ N. | 72°47.74′ W. | *
135 | 38°58.64′ N. | 72°48.35′ W. | *
136 | 38°59.3′ N. | 72°47.86′ W. | *
137 | 38°59.22′ N. | 72°46.69′ W. | *
138 | 39°0.13′ N. | 72°45.47′ W. | *
139 | 39°1.69′ N. | 72°45.74′ W. | *
140 | 39°1.49′ N. | 72°43.67′ W. | *
141 | 39°3.9′ N. | 72°40.83′ W. | *
142 | 39°7.35′ N. | 72°41.26′ W. | *
143 | 39°7.16′ N. | 72°37.21′ W. | *
144 | 39°6.52′ N. | 72°35.78′ W. | *
145 | 39°11.73′ N. | 72°25.4′ W. | *
146 | 39°11.76′ N. | 72°22.33′ W. |
147 | 39°19.08′ N. | 72°9.56′ W. | *
148 | 39°25.17′ N. | 72°13.03′ W. | *
149 | 39°28.8′ N. | 72°17.39′ W. | *
150 | 39°30.16′ N. | 72°20.41′ W. | *
151 | 39°31.38′ N. | 72°23.86′ W. | *
152 | 39°32.55′ N. | 72°25.07′ W. | *
153 | 39°34.57′ N. | 72°25.18′ W. | *
154 | 39°34.53′ N. | 72°24.23′ W. | *
155 | 39°33.17′ N. | 72°24.1′ W. | *
156 | 39°32.07′ N. | 72°22.77′ W. | *
157 | 39°32.17′ N. | 72°22.08′ W. | *
158 | 39°30.3′ N. | 72°15.71′ W. | *
159 | 39°29.49′ N. | 72°14.3′ W. | *
160 | 39°29.44′ N. | 72°13.24′ W. | *
161 | 39°27.63′ N. | 72°5.87′ W. | *
162 | 39°28.26′ N. | 72°2.2′ W. | *
163 | 39°29.88′ N. | 72°3.51′ W. | *
164 | 39°30.57′ N. | 72°3.47′ W. | *
165 | 39°31.28′ N. | 72°2.63′ W. | *
166 | 39°31.46′ N. | 72°1.41′ W. | *
167 | 39°37.15′ N. | 71°55.85′ W. | *
168 | 39°39.77′ N. | 71°53.7′ W. | *
169 | 39°41.5′ N. | 71°51.89′ W. |
170 | 39°43.84′ N. | 71°44.85′ W. | *
171 | 39°48.01′ N. | 71°45.19′ W. | *
172 | 39°49.97′ N. | 71°39.29′ W. | *
173 | 39°55.08′ N. | 71°18.62′ W. | *
174 | 39°55.99′ N. | 71°16.07′ W. | *
175 | 39°57.04′ N. | 70°50.01′ W. |
176 | 39°55.07′ N. | 70°32.42′ W. |
177 | 39°50.24′ N. | 70°27.78′ W. |
178 | 39°42.18′ N. | 70°20.09′ W. |
179 | 39°34.11′ N. | 70°12.42′ W. |
180 | 39°26.04′ N. | 70°4.78′ W. |
181 | 39°17.96′ N. | 69°57.18′ W. |
182 | 39°9.87′ N. | 69°49.6′ W. |
183 | 39°1.77′ N. | 69°42.05′ W. |
184 | 38°53.66′ N. | 69°34.53′ W. |
185 | 38°45.54′ N. | 69°27.03′ W. |
186 | 38°37.42′ N. | 69°19.57′ W. |
187 | 38°29.29′ N. | 69°12.13′ W. |
188 | 38°21.15′ N. | 69°4.73′ W. |
189 | 38°13′ N. | 68°57.35′ W. |
190 | 38°4.84′ N. | 68°49.99′ W. |
191 | 38°2.21′ N. | 68°47.62′ W. |

(c) Discrete Deep-Sea Coral Zones. (1) Block Canyon. Block Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Block Canyon
Point | Latitude | Longitude | Broad zone
1 | 39°55.08′ N. | 71°18.62′ W. | *
2 | 39°55.99′ N. | 71°16.07′ W. | *
3 | 39°49.51′ N. | 71°12.12′ W. |
4 | 39°38.09′ N. | 71°9.5′ W. |
5 | 39°37.4′ N. | 71°11.87′ W. |
6 | 39°47.26′ N. | 71°17.38′ W. |
7 | 39°52.6′ N. | 71°17.51′ W. |
1 | 39°55.08′ N. | 71°18.62′ W. | *

(2) Ryan and McMaster Canyons. Ryan and McMaster Canyons discrete deep-sea coral zone is defined by straight lines connecting the following points in the order stated (copies of a chart depicting this area are available from the Regional Administrator upon request). An asterisk (*) in the Broad Zone column means the point is shared with the Broad Deep-sea Coral Zone, as defined in paragraph (b) of this section.

Ryan and McMaster Canyons
Point | Latitude | Longitude | Broad zone
1 | 39°43.84′ N. | 71°44.85′ W. | *
2 | 39°48.01′ N. | 71°45.19′ W. | *
3 | 39°49.97′ N. | 71°39.29′ W. | *
4 | 39°48.29′ N. | 71°37.18′ W. |
5 | 39°42.96′ N. | 71°35.01′ W. |
6 | 39°33.43′ N. | 71°27.91′ W. |
7 | 39°31.75′ N. | 71°30.77′ W. |
8 | 39°34.46′ N. | 71°35.68′ W. |
9 | 39°40.12′ N. | 71°42.36′ W. |
1 | 39°43.84′ N. | 71°44.85′ W. | *

(3) Emery and Uchupi Canyons. Emery and Uchupi Canyons discrete deep-sea coral zone is defined by straight lines connecting the following points in the order stated (copies of a chart depicting this area are available from the Regional Administrator upon request). An asterisk (*) in the Broad Zone column means the point is shared with the Broad Deep-sea Coral Zone, as defined in paragraph (b) of this section.

Emery and Uchupi Canyons
Point | Latitude | Longitude | Broad zone
1 | 39°37.15′ N. | 71°55.85′ W. | *
2 | 39°39.77′ N. | 71°53.7′ W. | *
3 | 39°39.55′ N. | 71°47.68′ W. |
4 | 39°30.78′ N. | 71°36.24′ W. |
5 | 39°27.26′ N. | 71°39.13′ W. |
6 | 39°28.99′ N. | 71°45.47′ W. |
7 | 39°33.91′ N. | 71°52.61′ W. |
1 | 39°37.15′ N. | 71°55.85′ W. | *

(4) Jones and Babylon Canyons. Jones and Babylon Canyons discrete deep-sea coral zone is defined by straight lines connecting the following points in the order stated (copies of a chart depicting this area are available from the Regional Administrator upon request). An asterisk (*) in the Broad Zone column means the point is shared with the Broad Deep-sea Coral Zone, as defined in paragraph (b) of this section.

Jones and Babylon Canyons
Point | Latitude | Longitude | Broad zone
1 | 39°28.26′ N. | 72°2.2′ W. | *
2 | 39°29.88′ N. | 72°3.51′ W. | *
3 | 39°30.57′ N. | 72°3.47′ W. | *
4 | 39°31.28′ N. | 72°2.63′ W. | *
5 | 39°31.46′ N. | 72°1.41′ W. | *
6 | 39°30.37′ N. | 71°57.72′ W. |
7 | 39°30.63′ N. | 71°55.13′ W. |
8 | 39°23.81′ N. | 71°48.15′ W. |
9 | 39°23′ N. | 71°52.48′ W. |
1 | 39°28.26′ N. | 72°2.2′ W. | *

(5) Hudson Canyon. Hudson Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Hudson Canyon
Point | Latitude | Longitude | Broad zone
1 | 39°19.08′ N. | 72°9.56′ W. | *
2 | 39°25.17′ N. | 72°13.03′ W. | *
3 | 39°28.8′ N. | 72°17.39′ W. | *
4 | 39°30.16′ N. | 72°20.41′ W. | *
5 | 39°31.38′ N. | 72°23.86′ W. | *
6 | 39°32.55′ N. | 72°25.07′ W. | *
7 | 39°34.57′ N. | 72°25.18′ W. | *
8 | 39°34.53′ N. | 72°24.23′ W. | *
9 | 39°33.17′ N. | 72°24.1′ W. | *
10 | 39°32.07′ N. | 72°22.77′ W. | *
11 | 39°32.17′ N. | 72°22.08′ W. | *
12 | 39°30.3′ N. | 72°15.71′ W. | *
13 | 39°29.49′ N. | 72°14.3′ W. | *
14 | 39°29.44′ N. | 72°13.24′ W. | *
15 | 39°27.63′ N. | 72°5.87′ W. | *
16 | 39°13.93′ N. | 71°48.44′ W. |
17 | 39°10.39′ N. | 71°52.98′ W. |
18 | 39°14.27′ N. | 72°3.09′ W. |
1 | 39°19.08′ N. | 72°9.56′ W. | *

(6) Mey-Lindenkohl Slope. Mey-Lindenkohl Slope discrete deep-sea coral zone is defined by straight lines connecting the following points in the order stated (copies of a chart depicting this area are available from the Regional Administrator upon request). An asterisk (*) in the Broad Zone column means the point is shared with the Broad Deep-Sea Coral Zone, as defined in paragraph (b) of this section.

Mey-Lindenkohl Slope
Point | Latitude | Longitude | Broad zone
1 | 38°43′ N. | 73°1.24′ W. | *
2 | 38°43.66′ N. | 73°0.36′ W. | *
3 | 38°45′ N. | 73°0.27′ W. | *
4 | 38°46.68′ N. | 73°1.07′ W. | *
5 | 38°47.54′ N. | 73°2.24′ W. | *
6 | 38°47.84′ N. | 73°2.24′ W. | *
7 | 38°49.03′ N. | 73°1.53′ W. | *
8 | 38°48.45′ N. | 73°1′ W. | *
9 | 38°49.15′ N. | 72°58.98′ W. | *
10 | 38°48.03′ N. | 72°56.7′ W. | *
11 | 38°49.84′ N. | 72°55.54′ W. | *
12 | 38°52.4′ N. | 72°52.5′ W. | *
13 | 38°53.87′ N. | 72°53.36′ W. | *
14 | 38°54.17′ N. | 72°52.58′ W. | *
15 | 38°54.7′ N. | 72°50.26′ W. | *
16 | 38°57.2′ N. | 72°47.74′ W. | *
17 | 38°58.64′ N. | 72°48.35′ W. | *
18 | 38°59.3′ N. | 72°47.86′ W. | *
19 | 38°59.22′ N. | 72°46.69′ W. | *
20 | 39°0.13′ N. | 72°45.47′ W. | *
21 | 39°1.69′ N. | 72°45.74′ W. | *
22 | 39°1.49′ N. | 72°43.67′ W. | *
23 | 39°3.9′ N. | 72°40.83′ W. | *
24 | 39°7.35′ N. | 72°41.26′ W. | *
25 | 39°7.16′ N. | 72°37.21′ W. | *
26 | 39°6.52′ N. | 72°35.78′ W. | *
27 | 39°11.73′ N. | 72°25.4′ W. | *
28 | 38°58.85′ N. | 72°11.78′ W. |
29 | 38°32.39′ N. | 72°47.69′ W. |
30 | 38°34.88′ N. | 72°53.78′ W. |
1 | 38°43′ N. | 73°1.24′ W. | *

(7) Spencer Canyon. Spencer Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Spencer Canyon
Point | Latitude | Longitude | Broad zone
1 | 38°34.14′ N. | 73°11.14′ W. | *
2 | 38°35.1′ N. | 73°10.43′ W. | *
3 | 38°35.94′ N. | 73°11.25′ W. | *
4 | 38°37.57′ N. | 73°10.49′ W. | *
5 | 38°37.21′ N. | 73°9.41′ W. | *
6 | 38°36.72′ N. | 73°8.85′ W. | *
7 | 38°36.59′ N. | 73°8.25′ W. |
8 | 38°28.94′ N. | 72°58.96′ W. |
9 | 38°26.45′ N. | 73°3.24′ W. |
1 | 38°34.14′ N. | 73°11.14′ W. | *

(8) Wilmington Canyon. Wilmington Canyon discrete deep-sea coral zone is defined by straight lines connecting the following points in the order stated (copies of a chart depicting this area are available from the Regional Administrator upon request). An asterisk (*) in the Broad Zone column means the point is shared with the Broad Deep-sea Coral Zone, as defined in paragraph (b) of this section.

Wilmington Canyon
Point | Latitude | Longitude | Broad zone
1 | 38°19.04′ N. | 73°33.02′ W. | *
2 | 38°25.08′ N. | 73°34.99′ W. | *
3 | 38°26.32′ N. | 73°33.44′ W. | *
4 | 38°29.72′ N. | 73°30.65′ W. | *
5 | 38°28.65′ N. | 73°29.37′ W. | *
6 | 38°25.53′ N. | 73°30.94′ W. | *
7 | 38°25.26′ N. | 73°29.97′ W. | *
8 | 38°23.75′ N. | 73°30.16′ W. | *
9 | 38°23.47′ N. | 73°29.7′ W. | *
10 | 38°22.76′ N. | 73°29.34′ W. | *
11 | 38°22.5′ N. | 73°27.63′ W. | *
12 | 38°21.59′ N. | 73°26.87′ W. | *
13 | 38°18.52′ N. | 73°22.95′ W. |
14 | 38°14.41′ N. | 73°16.64′ W. |
15 | 38°13.23′ N. | 73°17.32′ W. |
16 | 38°15.79′ N. | 73°26.38′ W. |
1 | 38°19.04′ N. | 73°33.02′ W. | *

(9) North Heyes and South Wilmington Canyons. North Heyes and South Wilmington Canyons discrete deep-sea coral zone is defined by straight lines connecting the following points in the order stated (copies of a chart depicting this area are available from the Regional Administrator upon request). An asterisk (*) in the Broad Zone column means the point is shared with the Broad Deep-Sea Coral Zone, as defined in paragraph (b) of this section.

North Heyes and South Wilmington Canyons
Point | Latitude | Longitude | Broad zone
1 | 38°15.25′ N. | 73°36.2′ W. | *
2 | 38°16.19′ N. | 73°36.91′ W. | *
3 | 38°16.89′ N. | 73°36.66′ W. | *
4 | 38°16.91′ N. | 73°36.35′ W. | *
5 | 38°17.63′ N. | 73°35.35′ W. | *
6 | 38°18.55′ N. | 73°34.44′ W. | *
7 | 38°18.38′ N. | 73°33.4′ W. | *
8 | 38°19.04′ N. | 73°33.02′ W. | *
9 | 38°15.79′ N. | 73°26.38′ W. |
10 | 38°14.98′ N. | 73°24.73′ W. |
11 | 38°12.32′ N. | 73°21.22′ W. |
12 | 38°11.06′ N. | 73°22.21′ W. |
13 | 38°11.13′ N. | 73°28.72′ W. |
1 | 38°15.25′ N. | 73°36.2′ W. | *

(10) South Vries Canyon. South Vries Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

South Vries Canyon
Point | Latitude | Longitude | Broad zone
1 | 38°6.35′ N. | 73°44.8′ W. | *
2 | 38°7.5′ N. | 73°45.2′ W. | *
3 | 38°9.24′ N. | 73°42.61′ W. | *
4 | 38°3.22′ N. | 73°29.22′ W. |
5 | 38°2.38′ N. | 73°29.78′ W. |
6 | 38°2.54′ N. | 73°36.73′ W. |
1 | 38°6.35′ N. | 73°44.8′ W. | *

(11) Baltimore Canyon. Baltimore Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Baltimore Canyon
Point | Latitude | Longitude | Broad zone
1 | 38°3.29′ N. | 73°49.1′ W. | *
2 | 38°6.19′ N. | 73°51.59′ W. | *
3 | 38°7.67′ N. | 73°52.19′ W. | *
4 | 38°9.04′ N. | 73°52.39′ W. | *
5 | 38°10.1′ N. | 73°52.32′ W. | *
6 | 38°11.98′ N. | 73°52.65′ W. | *
7 | 38°13.74′ N. | 73°50.73′ W. | *
8 | 38°13.15′ N. | 73°49.77′ W. | *
9 | 38°10.92′ N. | 73°50.37′ W. | *
10 | 38°10.2′ N. | 73°49.63′ W. | *
11 | 38°9.26′ N. | 73°49.68′ W. | *
12 | 38°8.38′ N. | 73°49.51′ W. | *
13 | 38°7.59′ N. | 73°47.91′ W. | *
14 | 38°6.96′ N. | 73°47.25′ W. | *
15 | 38°6.51′ N. | 73°46.99′ W. | *
16 | 38°5.69′ N. | 73°45.56′ W. | *
17 | 38°6.35′ N. | 73°44.8′ W. | *
18 | 38°2.54′ N. | 73°36.73′ W. |
19 | 37°59.19′ N. | 73°40.67′ W. |
1 | 38°3.29′ N. | 73°49.1′ W. | *

(12) Warr and Phoenix Canyon Complex. Warr and Phoenix Canyon Complex discrete deep-sea coral zone is defined by straight lines connecting the following points in the order stated (copies of a chart depicting this area are available from the Regional Administrator upon request). An asterisk (*) in the Broad Zone column means the point is shared with the Broad Deep-Sea Coral Zone, as defined in paragraph (b) of this section.

Warr and Phoenix Canyon Complex
Point | Latitude | Longitude | Broad zone
1 | 37°53.68′ N. | 73°57.41′ W. | *
2 | 37°55.07′ N. | 73°57.27′ W. | *
3 | 38°3.29′ N. | 73°49.1′ W. | *
4 | 37°59.19′ N. | 73°40.67′ W. |
5 | 37°52.5′ N. | 73°35.28′ W. |
6 | 37°50.92′ N. | 73°36.59′ W. |
7 | 37°49.84′ N. | 73°47.11′ W. |
1 | 37°53.68′ N. | 73°57.41′ W. | *

(13) Accomac and Leonard Canyons. Accomac and Leonard Canyons discrete deep-sea coral zone is defined by straight lines connecting the following points in the order stated (copies of a chart depicting this area are available from the Regional Administrator upon request). An asterisk (*) in the Broad Zone column means the point is shared with the Broad Deep-Sea Coral Zone, as defined in paragraph (b) of this section.

Accomac and Leonard Canyons
Point | Latitude | Longitude | Broad zone
1 | 37°45.15′ N. | 74°7.24′ W. | *
2 | 37°45.88′ N. | 74°7.44′ W. | *
3 | 37°46.7′ N. | 74°5.98′ W. | *
4 | 37°49.62′ N. | 74°6.03′ W. | *
5 | 37°51.25′ N. | 74°5.48′ W. | *
6 | 37°51.99′ N. | 74°4.51′ W. | *
7 | 37°51.37′ N. | 74°3.3′ W. | *
8 | 37°50.63′ N. | 74°2.69′ W. | *
9 | 37°49.62′ N. | 74°2.28′ W. | *
10 | 37°50.28′ N. | 74°0.67′ W. | *
11 | 37°50.2′ N. | 74°0.17′ W. |
12 | 37°50.52′ N. | 73°58.59′ W. |
13 | 37°50.99′ N. | 73°57.17′ W. |
14 | 37°50.4′ N. | 73°52.35′ W. |
15 | 37°42.76′ N. | 73°44.86′ W. |
16 | 37°39.96′ N. | 73°48.32′ W. |
17 | 37°40.04′ N. | 73°58.25′ W. |
18 | 37°44.14′ N. | 74°6.96′ W. |
1 | 37°45.15′ N. | 74°7.24′ W. | *

(14) Washington Canyon. Washington Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Washington Canyon
Point | Latitude | Longitude | Broad zone
1 | 37°22.74′ N. | 74°26.24′ W. | *
2 | 37°22.87′ N. | 74°26.16′ W. | *
3 | 37°24.44′ N. | 74°28.57′ W. | *
4 | 37°24.67′ N. | 74°29.71′ W. | *
5 | 37°25.93′ N. | 74°30.13′ W. | *
6 | 37°27.25′ N. | 74°30.2′ W. | *
7 | 37°28.6′ N. | 74°30.6′ W. | *
8 | 37°29.43′ N. | 74°30.29′ W. | *
9 | 37°29.53′ N. | 74°29.95′ W. | *
10 | 37°27.68′ N. | 74°28.82′ W. | *
11 | 37°27.06′ N. | 74°28.76′ W. | *
12 | 37°26.39′ N. | 74°27.76′ W. | *
13 | 37°26.3′ N. | 74°26.87′ W. | *
14 | 37°25.69′ N. | 74°25.63′ W. | *
15 | 37°25.83′ N. | 74°24.22′ W. | *
16 | 37°25.68′ N. | 74°24.03′ W. | *
17 | 37°25.08′ N. | 74°23.29′ W. |
18 | 37°16.81′ N. | 73°52.13′ W. |
19 | 37°11.27′ N. | 73°54.05′ W. |
20 | 37°15.73′ N. | 74°12.2′ W. |
1 | 37°22.74′ N. | 74°26.24′ W. | *

(15) Norfolk Canyon. Norfolk Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Norfolk Canyon
Point | Latitude | Longitude | Broad zone
1 | 36°58.51′ N. | 74°36.51′ W. | *
2 | 36°58.62′ N. | 74°36.97′ W. | *
3 | 37°4.43′ N. | 74°41.03′ W. | *
4 | 37°5.83′ N. | 74°45.57′ W. | *
5 | 37°6.97′ N. | 74°40.8′ W. | *
6 | 37°4.52′ N. | 74°37.77′ W. | *
7 | 37°4.02′ N. | 74°33.83′ W. | *
8 | 37°4.52′ N. | 74°33.51′ W. | *
9 | 37°4.40′ N. | 74°33.11′ W. | *
10 | 37°4.16′ N. | 74°32.37′ W. |
11 | 37°4.40′ N. | 74°30.58′ W. |
12 | 37°3.65′ N. | 74°3.66′ W. |
13 | 36°57.75′ N. | 74°3.61′ W. |
14 | 36°59.77′ N. | 74°30′ W. |
15 | 36°58.23′ N. | 74°32.95′ W. |
16 | 36°57.99′ N. | 74°34.18′ W. |
1 | 36°58.51′ N. | 74°36.51′ W. | *

(d) Transiting. Vessels may transit the Broad and Discrete Deep-Sea Coral Zones defined in paragraphs (b) and (c) of this section, provided bottom-tending trawl nets are out of the water and stowed on the reel and any other fishing gear that is prohibited in these areas is onboard, out of the water, and not deployed. Fishing gear is not required to meet the definition of “not available for immediate use” in § 648.2, when a vessel transits the Broad and Discrete Deep-Sea Coral Zones.

[FR Doc. 2016-29811 Filed 12-13-16; 8:45 am]

BILLING CODE 3510-22-P